DEPARTMENT OF ENERGY

Federal Energy Regulatory Commission

Notice of Application for Amendment of License and Soliciting Comments, Motions To Intervene, and Protests

March 1, 2001.

Take notice that the following hydroelectric application has been filed with the Commission and is available for public inspection.

a. Application Type: Application to Amend License for the Round Butte & Pelton Project.

b. Project No: 2030-033.

c. Date Filed: February 20, 2001.

d. Applicant: Portland General Electric Company (PGE).

e. Name of Project: Round Butte & Pelton Project.

f. Location: The project is located on the Deschutes River in Jefferson County, Oregon, in part on federal lands, including tribal lands within the Warm Springs Indian Reservation.

g. Filed Pursuant to: Federal Power Act, 16 U.S.C. § 791(a)-825(r).

h. Applicant Contact: Julie Keil, Director, Hydro Licensing, Portland General Electric Company, 121 SW Salmon Street, 3WTC-BRHL, Portland, OR 97204, (503) 464-8864.

i. FERC Contact: Any questions on this notice should be addressed to Mr. Mohamad Fayyad (202) 219-2665 or by e-mail at mohamad.fayyad@ferc.fed.us.

j. Deadline for filing comments and/or motions: March 23, 2001.

All documents (original and eight copies) should be filed with: David P. Boergers, Secretary, Federal Energy Regulatory Commission, 888 First Street, NE., Washington, DC 20426. Comments and protests may be filed electronically via the Internet in lieu of paper. See, 18 CFR 385.2001(a)(1)(iii) and the instructions on the Commission's web site at http://www.ferc.fed.us/efi/doorell.htm.

Please include the project number (2030-033) on any comments or motions filed.

k. Description of Filing: PGE proposes to replace the runners on two of the three turbines at the Round Butte Development of the project. The proposed new runners will have a maximum hydraulic capacity of 4,700 cfs at 345 ft net head, which represents an approximate 3% increase in the maximum hydraulic capacity of the turbines. The existing turbines are operated in their high efficiency range and the upgrade units would be operated in a similar manner. The capacity of the Round Butte Development would not change because it is limited by the generator capacity. Installation of new runners would provide increased flexibility in system load following and spinning reserve capability, and could alleviate some of the shortages in energy currently being experienced in that part of the Nation.

l. Locations of the Application: A copy of the application is available for inspection and reproduction at the Commission's Public Reference Room, located at 888 First Street, NE, Room 2A, Washington, DC 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTESTS”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If any agency does not file comments within the time specified for filing comments, it will be presumed to have no comments. One copy of an agency's comments must also be sent to the Applicant's representatives.

David P. Boergers,
Secretary.

[FR Doc. 01-5528 Filed 3-6-01; 8:45 am]

BILLING CODE 6717-01-M